LEGAL SERVICES CORPORATION

Sunshine Act; Notice of Meeting

TIME AND DATE: The Legal Services Corporation Board of Directors' Search Committee for LSC President (“Search Committee” or “Committee”) will meet on July 20, 2010. The meeting will begin at 4 p.m. (Central Daylight Savings Time) and continue until conclusion of the Committee's agenda.

LOCATION: Sidley Austin, LLP, 1 South Dearborn Street, Chicago, IL 60603.

STATUS OF MEETING: Closed. The meeting of the Search Committee will be closed to the public pursuant to a vote of the Board of Directors authorizing the Committee to consider and perhaps act on proposals submitted by bidding executive search recruiters and to evaluate the qualifications of the recruiters. This closure will be authorized by the relevant provisions of the Government in the Sunshine Act [5 U.S.C. 552b(c)(4) and (6)] and LSC's implementing regulation 45 CFR 1622.5(c) ¹ and (e).²

¹ 45 CFR 1622.5(c)—Protects information the disclosure of which would disclose trade secrets and commercial or financial information which is confidential.

² 45 CFR 1622.5(e)—45 CFR § 1622.5(e)—Protects information the disclosure of which would constitute a clearly unwarranted invasion of personal privacy.

A verbatim written transcript will be made of the closed session of the Board meeting. However, the transcript of any portions of the closed session falling within the relevant provisions of the Government in the Sunshine Act [5 U.S.C. 552b(c)(4) and (6)] and LSC's implementing regulation 45 CFR 1622.5(c) and (e), will not be available for public inspection. A copy of the General Counsel's Certification that in his opinion the closing is authorized by law will be available upon request.

Matters To Be Considered

Closed Session

1. Approval of agenda.

2. Consider and act on proposals submitted by and evaluate the qualifications of executive search recruiters that submitted proposals for a contract to assist in recruitment of a new LSC president.

3. Consider and act on other business.

4. Consider and act on adjournment of meeting.

CONTACT PERSON FOR INFORMATION: Kathleen Connors, Executive Assistant to the President, at (202) 295-1500. Questions may be sent by electronic mail to FR_NOTICE_QUESTIONS@lsc.gov.

SPECIAL NEEDS: Upon request, meeting notices will be made available in alternate formats to accommodate visual and hearing impairments. Individuals who have a disability and need an accommodation to attend the meeting may notify Kathleen Connors at (202) 295-1500 or FR_NOTICE_QUESTIONS@lsc.gov.

Dated: July 13, 2010.
Patricia D. Batie,
Corporate Secretary.

[FR Doc. 2010-17438 Filed 7-13-10; 4:15 pm]

BILLING CODE 7050-01-P